DEPARTMENT OF THE TREASURY

Submission for OMB Review; Comment Request

April 23, 2010.

The Department of the Treasury will submit the following public information collection requirement to OMB for review and clearance under the Paperwork Reduction Act of 1995, Public Law 104-13 on or after the publication date of this notice. A copy of the submission may be obtained by calling the Treasury Departmental Office Clearance Officer listed. Comments regarding this information collection should be addressed to the OMB reviewer listed and to the Treasury PRA Clearance Officer, Department of the Treasury, 1750 Pennsylvania Avenue, NW., Suite 11010, Washington, DC 20220.

Dates: Written comments should be received on or before June 1, 2010 to be assured of consideration.

Community Development Financial Institutions (CDFI) Fund

OMB Number: 1559-0035.

Type of Review: Extension of a currently approved collection.

Title: NMTC Recovery Act Allocatee Quarterly Report.

Form No.: CDFI 0031.

Description: The CDFI Fund is requiring American Recovery and Reinvestment Act (ARRA) New Markets Tax Credit Allocatees to complete, on a quarterly basis, a much shorter version of the CDFI Fund's Transactional Level Report (TLR), which Allocatees currently report through the Community Investment Impact System (CIIS). The Quarterly New Markets Report (QNMR) will help the CDFI Fund meet its own ARRA agency reporting requirement per agreement with OMB that New Markets Tax Credit Allocatees provide quarterly reports.

Respondents: Private Sector: businesses or other for-profits.

Estimated Total Burden Hours: 960 hours.

OMB Number: 1559-0024.

Type of Review: Revision of a currently approved collection.

Title: New Markets Tax Credit (NMTC) Program Allocation Tracking System (ATS)

Description: The purpose of the NMTC Program ATS is to obtain information on investors making qualified investments in community development entities that receive a New Markets Tax Credit allocation.

Respondents: Private Sector: businesses or other for-profits, not-for-profit institutions.

Estimated Total Burden Hours: 5,940 hours.

OMB Number: 1559-0034.

Type of Review: Financial Education & Counseling Pilot Program Application.

Title: Revision of a currently approved collection.

Form No.: CDFI 0033.

Description: The CDFI Fund is implementing a Financial Education and Counseling (FEC) Pilot Program to provide financial assistance awards to eligible organizations to provide a range of financial education and counseling services to prospective home buyers.

Respondents: Private Sector: businesses or other for-profits, not-for-profit institutions.

Estimated Total Burden Hours: 8,000 hours.

CDFI Fund Clearance Officer: Ashanti McCallum, Community Development Financial Institutions Fund, Department of the Treasury, 601 13th Street, NW., Suite 200 South, Washington, DC 20005; (202) 622-9018.

OMB Reviewer: Shagufta Ahmed, Office of Management and Budget, New Executive Office Building, Room 10235, Washington, DC 20503; (202) 395-7873.

Celina Elphage,
Treasury PRA Clearance Officer.

[FR Doc. 2010-9885 Filed 4-28-10; 8:45 am]

BILLING CODE 4810-70-P